DEPARTMENT OF THE INTERIOR

National Park Service

[NPS-WASO-CONC-28974; PPWOBSADC0, PPMVSCS1Y.Y00000]

Notice of Extension of Concession Contracts and Intent To Award Temporary Concession Contract

AGENCY: National Park Service, Interior.

ACTION: Public notice.

SUMMARY: The National Park Service hereby gives public notice that it proposes to extend the expiring concession contracts listed in the table below until the date shown in the “Extension Date” column, or until the effective date of a new contract, whichever occurs sooner. The National Park Service hereby gives public notice that it intends to award one temporary concession contract as described below.

DATES: The National Park Service intends for the extensions and temporary concession contract to commence on January 1, 2020.

FOR FURTHER INFORMATION CONTACT: Kurt Rausch, Acting Program Chief, Commercial Services Program, National Park Service, 1849 C Street NW, Mail Stop 2410, Washington, DC 20240, Telephone: 202-513-7156.

SUPPLEMENTARY INFORMATION: All of the concession contracts listed in the first table below will expire by their terms on or before December 31, 2019. The National Park Service intends to extend the concession contracts shown until the specific date shown in the “Extension Date” column, or until the effective date of a new concession contract, whichever occurs first.

For the second table, the contract is extended until the date shown in the “Extension Date” column. Under the provisions of current concession contracts, the National Park Service authorizes extension of visitor services for the listed contracts under the terms and conditions of the current contract (as amended if applicable). The extension of operations does not affect any rights with respect to selection for award of a new concession contract. The National Park Service has determined the proposed extensions are necessary to avoid interruption of visitor services and has taken all reasonable and appropriate steps to consider alternatives to avoid such interruption. The publication of this notice merely reflects the intent of the National Park Service and does not bind the National Park Service to extend or award any of the contracts listed below.

The information in the third table shows concession contracts for which the National Park Service intends to award temporary concession contracts to qualified persons under the authority of 36 CFR 51.24(a), for a term not to exceed 3 years. The NPS intends for the temporary concession contracts to commence as of the specific dates shown in the “Effective Date” column. This notice is not a request for proposals.

Table 1—Concession Contracts Extended Until the Date Shown or Until the Effective Date of a New Contract
Park unit | CONCID | Concessioner | Extension date
Acadia NP | ACAD014-09 | Carriages of Acadia, Inc | 12/31/2020
Bryce Canyon NP | BRCA003-10 | The Lodge at Bryce Canyon, LLC | 12/31/2020
Buck Island Reef NM | BUIS015-07 | D.T.R.T. Enterprises, LLC | 12/2/2020
Geo. Washington MP | GWMP003-13 | Belle Haven Marina, Inc | 12/31/2020
Glacier NP | GLAC001-10 | Glacier Park Boat Company, Inc | 12/31/2020
Golden Gate NRA | GOGA010-98 | Peanut Wagon, Inc | 12/31/2020
Grand Canyon NP | GRCA002-08 | Grand Canyon North Rim, LLC | 12/31/2020
Grand Canyon NP | GRCA004-10 | Mangum Enterprises, Inc | 12/31/2020
Grand Canyon NP | GRCA006-08 | AzRA Acquisition, LLC | 12/31/2020
Grand Canyon NP | GRCA007-08 | Arizona River Runners, Inc | 12/31/2020
Grand Canyon NP | GRCA010-08 | Canyoneers, Inc | 12/31/2020
Grand Canyon NP | GRCA011-08 | Colorado River & Trail Expeditions, Inc | 12/31/2020
Grand Canyon NP | GRCA015-08 | Grand Canyon Expeditions Company, Inc | 12/31/2020
Grand Canyon NP | GRCA016-08 | Canyon Expeditions, Inc | 12/31/2020
Grand Canyon NP | GRCA017-08 | Grand Canyon Whitewater, LLC | 12/31/2020
Grand Canyon NP | GRCA018-08 | Hatch River Expeditions, Inc | 12/31/2020
Grand Canyon NP | GRCA020-08 | Arizona Raft Adventures, LLC | 12/31/2020
Grand Canyon NP | GRCA021-08 | O.A.R.S. Grand Canyon, Inc | 12/31/2020
Grand Canyon NP | GRCA022-08 | Outdoors Unlimited River Trips | 12/31/2020
Grand Canyon NP | GRCA024-08 | ARAMARK Sports & Ent. Services, Inc | 12/31/2020
Grand Canyon NP | GRCA025-08 | Tour West, Inc | 12/31/2020
Grand Canyon NP | GRCA026-08 | Western River Expeditions, Inc | 12/31/2020
Grand Canyon NP | GRCA028-08 | Canyon Explorations, Inc | 12/31/2020
Grand Canyon NP | GRCA029-08 | Grand Canyon Discovery, LLC | 12/31/2020
Grand Teton NP | GRTE006-10 | Barker-Ewing Scenic Tours, Inc | 12/31/2020
Grand Teton NP | GRTE008-10 | Grand Teton Fly Fishing, LLC | 12/31/2020
Grand Teton NP | GRTE010-10 | Snake River Angler, Inc | 12/31/2020
Grand Teton NP | GRTE011-10 | Heart 6 Ranch, LLC | 12/31/2020
Grand Teton NP | GRTE014-10 | Snake River Angler | 12/31/2020
Grand Teton NP | GRTE015-10 | Triangle X Ranch | 12/31/2020
Grand Teton NP | GRTE017-10 | O.A.R.S. West, Inc | 12/31/2020
Grand Teton NP | GRTE020-10 | Solitude Float Trips, Inc | 12/31/2020
Grand Teton NP | GRTE040-10 | Lost Creek Ranch | 12/31/2020
Grand Teton NP | GRTE043-10 | Teton Whitewater, LC | 12/31/2020
Grand Teton NP | GRTE045-10 | C-H Ranch Corporation | 12/31/2020
Grand Teton NP | GRTE052-10 | RPK Investments, Inc | 12/31/2020
Great Smoky Mtns NP | GRSM002-09 | Stokely Consolidated Investments, LLC | 12/31/2020
Great Smoky Mtns NP | GRSM003-10 | Tammy Monhollen | 12/31/2020
Great Smoky Mtns NP | GRSM006-07 | Smoky Mountain Stables, Inc | 11/30/2020
Great Smoky Mtns NP | GRSM010-10 | Great Smoky Mountains Association | 12/31/2020
Isle Royale NP | ISRO001-10 | Isle Royale Resorts, LLC | 12/31/2020
Muir Woods NM | MUWO001-09 | Cloudless Skies Parks Company, LLC | 9/30/2020
Ozark NCR | OZAR001 | Narvey's Alley Spring Canoe Rental, LLC | 12/31/2020
Ozark NCR | OZAR018 | Two Rivers Canoes, LLC | 12/31/2020
Prince William FP | PRWI001-08 | Recreational Adventures Campground, LLC | 12/31/2020
Southeast Region | SERO001-09 | Eastern National | 12/31/2020
Yellowstone NP | YELL001-10 | Medcor, Inc | 13/31/2020
Yellowstone NP | YELL004-08 | Yellowstone Park Service Stations, Inc | 12/31/2020
Yukon-Charley Rivers National Preserve | YUCH001-10 | Eric Decker | 12/31/2020
Zion NP | ZION003-09 | Xanterra Parks & Resorts, Inc | 12/31/2020

Table 2—Concession Contracts Extended Until the Date Shown
Park unit | CONCID | Concessioner | Extension date
Big Bend NP | BIBE002-08 | Big Bend Resorts, LLC | 6/30/2021
Channel Islands NP | CHIS001-11 | The Island Packers Corporation | 12/31/2021
Death Valley NP | DEVA002-11 | NEG282, LLC | 1/12/2022
Dry Tortugas NP | DRTO001-10 | Yankee Freedom III, LLC | 10/31/2021
Everglades NP | EVER005-10 | Florida National Parks and Monuments Association | 8/31/2021
Fort McHenry NM&HS | FOMC001-10 | Evelyn Hill, Inc., Bradford Hill | 11/30/2021
Golden Gate NRA | GOGA002-09 | American Youth Hostels, Inc | 4/30/2021
Olympic NP | OLYM003-10 | Aramark Sports & Entertainment Services, LLC | 1/31/2021
Pictured Rocks NL | PIRO001 | Pictured Rocks Cruises, Inc | 12/31/2021
Statue of Liberty NM | STI001-07 | Statue Cruises, LLC | 2/28/2021
Statue of Liberty NM | STLI004-09 | Evelyn Hill, Inc. , Bradford Hill | 10/31/2021
Yosemite NP | YOSE001-10 | Best's Studio, Inc | 2/28/2021

Table 3—Temporary Concession Contract
Park unit | CONCID | Services | Effective date
Eisenhower NHS | EISE001-07 | Transportation | 1/1/2020

Lena McDowall,
Deputy Director, Management and Administration.

[FR Doc. 2020-19508 Filed 9-2-20; 8:45 am]

BILLING CODE 4312-53-P